INTERNATIONAL TRADE COMMISSION

[Inv. No. 337-TA-439]

Certain HSP Modems, Software and Hardware Components Thereof, and Products Containing Same; Notice of a Commission Determination not to Review an Initial Determination Terminating the Investigation as to the Smart Link Respondents on the Basis of a Settlement Agreement

AGENCY: U.S. International Trade Commission.

ACTION: Notice.

SUMMARY: Notice is hereby given that the U.S. International Trade Commission has determined not to review the presiding administrative law judge's (“ALJ's”) initial determination (“ID”) terminating the Smart Link respondents from the above-captioned investigation on the basis of a settlement agreement.

FOR FURTHER INFORMATION CONTACT: Timothy P. Monaghan, Esq., Office of the General Counsel, U.S. International Trade Commission, 500 E Street, SW., Washington, DC 20436, telephone 202-205-3152. General information concerning the Commission may also be obtained by accessing its Internet server (http://www.usitc.gov). Hearing-impaired persons are advised that information on this matter can be obtained by contacting the Commission's TDD terminal on 202-205-1810. The public record for this investigation may be viewed on the Commission's electronic docket (EDIS-ON-LINE) at http://dockets.usitc.gov/eol/public.

SUPPLEMENTARY INFORMATION: The Commission instituted this investigation on October 11, 2000, based on a complaint filed by PCTEL, Inc. (“PCTEL”) of Milpitas, California. The complaint named Smart Link Ltd. of Netanya, Israel and Smart Link Technologies, Inc. of Watertown, Massachusetts (collectively “Smart Link”) and ESS Technology, Inc. (“ESS”) of Fremont California as respondents. The complaint alleged that Smart Link and ESS had violated section 337 of the Tariff Act of 1930 by importing into the United States, selling for importation, and/or selling within the United States after importation certain HSP modems, software and hardware components thereof, and products containing the same by reason of infringement of claims 1-2 of U.S. Letters Patent 5,787,305, claims 1-4, 7-8, and 11-15 of U.S. Letters Patent 5,931,950, claims 1, 2, 10, and 15-17 of U.S. Letters Patent 4,841,561, and claims 1, 6-7, 10-12, and 15-19 of U.S. Letters Patent 5,940,459.

On May 17, 2001, PCTEL and Smart Link entered into a settlement agreement. On May 30, 2001, PCTEL and Smart Link filed the joint motion to terminate the investigation as to Smart Link. The Commission investigative attorney supported the joint motion.

On May 30, 2001, the presiding ALJ issued an ID (Order No. 73) granting the motion to terminate the investigation as to Smart Link. No petitions for review of the ID were filed.

The authority for the Commission's action is contained in section 337 of the Tariff Act of 1930, as amended (19 U.S.C. 1337), and in section 210.42 of the Commission's Rules of Practice and Procedure (19 CFR 210.42).

Copies of the public version of the ID, and all other nonconfidential documents filed in connection with this investigation, are or will be available for inspection during official business hours (8:45 a.m. to 5:15 p.m.) in the Office of the Secretary, U.S. International Trade Commission, 500 E Street, SW., Washington, DC 20436, telephone 202-205-2000.

Issued: June 28, 2001.
By order of the Commission.
Donna R. Koehnke,
Secretary.

[FR Doc. 01-16725 Filed 7-3-01; 8:45 am]

BILLING CODE 7020-02-P